DEPARTMENT OF HEALTH AND HUMAN SERVICES

National Institutes of Health

Prospective Grant of Exclusive License: Technologies Relating to SH2 Domain Binding Inhibitors and Inhibition of Cell Motility and Angiogenesis

AGENCY: National Institutes of Health, Public Health Service, HHS.

ACTION: Notice.

SUMMARY: This is notice, in accordance with 35 U.S.C. 209(c)(1) and 37 CFR part 404.7(a)(1)(i), that the National Institutes of Health, Department of Health and Human Services, is contemplating the grant of an exclusive patent license to practice the inventions embodied in U.S. Patent Application No. 09/937,150, filed March 26, 2002, entitled “Phenylalanine Derivatives” [E-105-1999/0-US-07]; U.S. Patent Application No. 10/517,717, filed March 17, 2005, entitled “SH2 Domain Binding Inhibitors” [E-262-2000/1-US-03]; U.S. Patent Application No. 10/944,699, filed September 17, 2004, entitled “SH2 Domain Binding Inhibitors” [E-315-2003/0-US-02]; PCT Patent Application PCT/US05/35246, filed September 30, 2005, entitled “A New Approach Toward Macrocyclization of Peptides” [E-327-2004/0-PCT-02]; U.S. Provisional Patent Application No. 60/867,307, filed November 27, 2006, entitled “Macrocyclic GRB2 SH2 Domain Binding Inhibitors Prepared Using Achiral Alkenyl Amines” [E-305-2006/0-US-01]; U.S. Patent 6,977,241, issued December 20, 2005, entitled “SH2 Domain Binding Inhibitors” [E-262-2000/0-US-03]; U.S. Patent 7,132,392, issued November 11, 2006, entitled “Inhibition of Cell Motility and Angiogenesis by Inhibitors of the GRB2 SH2 Domain” [E-265-1999/0-US-07]; to Angion Biomedica Corporation, having a place of business in Manhasset, New York. The patent rights in these inventions have been assigned to the United States of America.

The prospective exclusive license territory may be worldwide, and the field of use may be limited to cancer and the modulation of angiogenesis in inflammatory disease.

DATES: Only written comments and/or applications for a license which are received by the NIH Office of Technology Transfer on or before May 29, 2007 will be considered.

ADDRESSES: Requests for copies of the patent application, inquiries, comments, and other materials relating to the contemplated exclusive license should be directed to: Adaku Nwachukwu, J.D., Technology Licensing Specialist, Office of Technology Transfer, National Institutes of Health, 6011 Executive Boulevard, Suite 325, Rockville, MD 20852-3804; Telephone: (301) 435-5560; Facsimile: (301) 402-0220; E-mail: madua@mail.nih.gov.

SUPPLEMENTARY INFORMATION: These technologies relate to anti-cancer drugs that target the inhibition of specific enzymes in certain pathways that will interfere with a cell's signal transduction processes. The current technologies include specific compounds that inhibit GRB2 SH2 domain binding. In addition, the technologies relate to how these compounds may inhibit cell motility and angiogenesis.

The prospective exclusive license will be royalty bearing and will comply with the terms and conditions of 35 U.S.C. 209 and 37 CFR part 404.7. The prospective exclusive license may be granted unless within sixty (60) days from the date of this published notice, the NIH receives written evidence and argument that establishes that the grant of the license would not be consistent with the requirements of 35 U.S.C. 209 and 37 CFR part 404.7.

Applications for a license in the field of use filed in response to this notice will be treated as objections to the grant of the contemplated exclusive license. Comments and objections submitted to this notice will not be made available for public inspection and, to the extent permitted by law, will not be released under the Freedom of Information Act, 5 U.S.C. 552.

Dated: March 16, 2007.
Steven M. Ferguson,
Director, Division of Technology Development and Transfer, Office of Technology Transfer, National Institutes of Health.

[FR Doc. E7-5674 Filed 3-27-07; 8:45 am]

BILLING CODE 4140-01-P